NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 6, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTAL INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2014-005

1. Applicant: Brent Stewart.

Applicant Address

Hubbs-SeaWorld Research Institute, 2595 Ingraham Street, San Diego, California, 92109.

Activity for Which Permit Is Requested

Harmful Interference/Take. This application is to allow for the un-intentional and unexpected brief, minor disturbance to Antarctic birds and marine mammals at breeding, molting, and terrestrial, fast-ice, and sea-ice haul-out sites at various sub-Antarctic (within geographic coverage area of the Antarctic Treaty) and Antarctic locations during observational research to document several aspects of acoustic and non-acoustic behavior and ecology.

Research would be conducted using remote-controlled aerial platforms (i.e., quad-copters and hex-copters) equipped with small high-resolution cameras to document distribution, dispersion, habitat use, and abundance of seals and seabirds whenever conditions permit. These aerial sorties will be launched at least 50 to 100m from any wildlife should not be detectable visually or acoustically by wildlife during their operation. Flight altitudes would be 100 m or higher. Photographs and audio recordings also would be collected on the ground. No Antarctic Specially Protected Areas (ASPA) would be entered in pursuit of this research.

Research locations would be accessed from tour ships as part of their pre-scheduled landings and is therefore focused on visitor sites.

Location

Western Antarctic Peninsula region visitor sites.

Dates

Dates permit valid: October 1, 2013 to October 1, 2018.

Nadene G. Kennedy,
Division of Polar Programs.

[FR Doc. 2013-19034 Filed 8-6-13; 8:45 am]

BILLING CODE 7555-01-P